DEPARTMENT OF TRANSPORTATION

National Highway Traffic Safety Administration

[Docket No NHTSA-2000-8171]

Reports, Forms, and Recordkeeping Requirements

AGENCY: National Highway Traffic Safety Administration (NHTSA), DOT.

ACTION: Request for public comment on proposed collection of information.

SUMMARY: Before a Federal Agency can collect certain information from the public, it must receive approval from the Office of Management and Budget (OMB). Under procedures established by the Paperwork Reduction Act of 1995, before seeking OMB approval, Federal Agencies must solicit public comment on proposed information collections, including extensions and reinstatements of previously approved collections. This document describes one collection of information for which NHTSA intends to seek OMB approval.

DATES: Comments must be received on or before February 12, 2001.

ADDRESSES: Direct all written comments to U.S. Department of Transportation Dockets, 400 Seventh Street, SW., Plaza 401, Washington, DC 20590. Docket No. NHTSA-2000-8171.

FOR FURTHER INFORMATION CONTACT: Marvin Levy, Ph.D., Contracting Officer's Technical Representative, Office of Research and Traffic Records (NTS-31), Washington, DC 20590, telephone (202) 366-5597.

SUPPLEMENTARY INFORMATION: Under the Paperwork Reduction Act of 1995, before an agency submits a proposed collection of information to OMB for approval, it must publish a document in the Federal Register providing for a 60-day comment period and to allow for consultation with affected agencies and members of the public concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methods and assumptions;

(iii) How to enhance the quality, utility, and clarity of the information to be collected; and

(iv) How to minimize the burden of the collection of information on those who are to respond, including the use of appropriate automated, electronic, mechanical, or other technological collection techniques or other forms of information technology, e.g., permitting electronic submission of responses.

In response to these requirements, NHTSA asks for public comment on the following proposed collection of information:

National Survey of Drinking and Driving Attitudes and Behavior

Type of Request: New information collection requirement.

OMB Clearance Number: None.

Form Number: This collection of information uses no standard forms.

Requested Expiration Date of Approval: February 28, 2002.

Summary of the Collection of Information

An agency goal is to reduce the number of alcohol related fatalities from 15,786, in 1999, to 11,000 by the year 2005. In support of this goal, NHTSA has conducted over the past decade a series of bi-annual surveys of the driving-aged public (aged 16 or older) to identify patterns and trends in public attitudes and behaviors towards drinking and driving and public reaction to alcohol countermeasures aimed at reducing the occurrence of drinking and driving and alcohol related crashes. The proposed study, to be administered in the 3rd quarter of 2001, and the sixth in this series of biennial surveys, will collect data on topics included in the first five studies (and several additional topics), including: frequency of drinking and driving and of riding with an impaired driver, ways to prevent drinking and driving, enforcement of drinking and driving laws including the use of sobriety checkpoints, understanding of BAC levels and legal limits, and crash and injury experience.

The survey will be administered by telephone to a national probability sample of the driving age public (aged 16 years or older as of their last birthday). Participation by respondents is voluntary. The interview is anticipated to average approximately 20-25 minutes; for non-drinkers and non-drivers the interview will average below 20 minutes, while for drinker-drivers it will average slightly over 20 minutes. Interviewers will use computer assisted telephone interviewing to reduce survey administration time and to minimize data collection errors. A Spanish-language questionnaire and bi-lingual interviewers will be used to reduce language barriers to participation. All respondents' results will remain anonymous and completely confidential. Participant names are not collected during the interview and the telephone number used to reach the respondent is separated from the data record prior to its entry into the analytical database.

Description of the Need for and Proposed Use of the Information

More than 308,000 persons were reported injured and nearly 16,000 persons died in alcohol-related motor vehicle crashes in 1999 ( NHTSA-National Center for Statistics and Analysis). NHTSA is committed to the development of effective programs to reduce the incidence of these crashes. In order to properly plan and evaluate programs directed at reducing alcohol-impaired driving, the agency needs to periodically update its knowledge and understanding of the public's attitudes and behaviors with respect to drinking and driving.

The findings from this proposed collection will assist NHTSA in addressing the problem of alcohol-impaired driving and in formulating programs and recommendations to Congress. NHTSA will use the findings to help focus current programs and activities to achieve the greatest benefit, to develop new programs to decrease the likelihood of drinking and driving behaviors, and to provide informational support to states, localities, and law enforcement agencies that will aid them in their efforts to reduce drinking and driving crashes and injuries.

Description of the Likely Respondents (Including Estimated Number, and Proposed Frequency of Response to the Collection of Information)

Under this proposed collection, a telephone interview averaging approximately 20 minutes in length would be administered to each of 6,000 randomly selected members of the general public age 16 and older. The respondent sample would be selected from all 50 states plus the District of Columbia. Interviews would be conducted with persons at residential phone numbers selected using random digit dialing. No more than one respondent per household would be selected, and each sample member would complete just one interview. Businesses are ineligible for the sample and would be not be interviewed.

Estimate of the Total Annual Reporting and Record Keeping Burden Resulting From the Collection of Information

NHTSA estimates that respondents in the sample would require an average of 20 minutes to complete the telephone interview. Thus, estimated reporting burden on the general public would be a total of 2000 hours for the proposed survey. The respondents would not incur any reporting or record keeping cost from the information collection.

Rose A. McMurray,
Associate Administrator for Traffic Safety Programs, National Highway Traffic Safety Administration.

[FR Doc. 00-31676 Filed 12-12-00; 8:45 am]

BILLING CODE 4910-59-P